DEPARTMENT OF THE INTERIOR

Geological Survey

[GX12LC00BM3FD00]

Agency Information Collection Activities: Submitted for Office of Management and Budget (OMB) Review; Comment Request

AGENCY: U.S. Geological Survey (USGS), Interior.

ACTION: Notice of a request for an extension of a currently approved information collection (1028-0079).

SUMMARY: To comply with the Paperwork Reduction Act of 1995 (PRA), the U.S. Geological Survey (USGS) is inviting comments on an information collection request (ICR) that we have sent to the Office of Management and Budget (OMB) for review and approval. The ICR concerns the paperwork requirements for the “North American Breeding Bird Survey.” As required by the Paperwork Reduction Act (PRA) of 1995, and as part of our continuing efforts to reduce paperwork and respondent burden, we invite the general public and other Federal agencies to take this opportunity to comment on this ICR. This Information Collection is scheduled to expire on July 31, 2012.

DATES: Submit written comments by July 16, 2012.

ADDRESSES: Please submit comments on this information collection directly to the Office of Management and Budget (OMB), Office of Information and Regulatory Affairs, Attention: Desk Officer for the Department of the Interior via email: (OIRA_DOCKET@omb.eop.gov); or by fax (202) 395-5806; and identify your submission with #1028-0079. Please also submit a copy of your comments to Information Collection Clearance Officer, U.S. Geological Survey, 807 National Center, Reston, VA 20192 (mail); or smbaloch@usgs.gov (email). Please reference Information Collection 1028-0079.

FOR FURTHER INFORMATION CONTACT: Keith Pardieck at (301) 497-5843. Copies of the full Information Collection Request and the form can be obtained at no cost at http://www.reginfo.gov.

SUPPLEMENTARY INFORMATION: Title: North American Breeding Bird Survey (BBS).

OMB Control Number: 1028-0079.

Bureau Form Number: None.

Type of Request: Extension of a currently approved collection.

Abstract: The BBS is a long-term, large-scale avian monitoring program to track the status and trends of North American bird populations. Volunteers conduct avian point counts once per year during the breeding season (primarily June). Volunteers skilled in avian identification listen for 3 minutes at 50 stops along the route recording all birds seen or heard. Data are submitted electronically via the Internet or on hard copy. These data are used to estimate population trends and abundances at various geographic scales and assist with documenting species distribution.

Frequency: Annually.

Estimated Number and Description of Respondents: Approximately 2,500 volunteer respondents per year.

Estimated Number of Responses: 2,500.

Annual Burden Hours: 27,500.

Estimated Annual Reporting and Recordkeeping “Hour” Burden: We estimate the public reporting burden averages 11 hours per response. This includes the time for driving to/from the survey route locations and scouting route, 50 3-minute data collection periods (one at each sampling station along the route), data submission, and data verification.

Estimated Reporting and Recordkeeping “Non-Hour Cost” Burden: We estimate the total “nonhour” cost burden to be $127,500. This total includes costs of mileage for conducting the surveys.

Public Disclosure Statement: The PRA (44 U.S.C. 3501, et seq.) provides that an agency may not conduct or sponsor, and you are not required to respond to, a collection of information unless it displays a currently valid OMB control number. Until OMB approves a collection of information, you are not obligated to respond.

Comments: To comply with the public consultation process, on March 2, 2012, we published a Federal Register notice (77 FR 12871) announcing that we would submit this ICR to OMB for approval. The notice provided the required 60-day public comment period, which ended May 1, 2012. We received no comments germane to the collection. We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: May 29, 2012.
Anne Kinsinger,
Associate Director for Ecosystems.

[FR Doc. 2012-14704 Filed 6-14-12; 8:45 am]

BILLING CODE P